DEPARTMENT OF COMMERCE

International Trade Administration

[A-570-062]

Cast Iron Soil Pipe Fittings From the People's Republic of China: Preliminary Results of the Antidumping Duty Administrative Review 2018-2019

AGENCY: Enforcement and Compliance, International Trade Administration, Department of Commerce.

SUMMARY: The Department of Commerce (Commerce) preliminarily determines that Wor-Biz Industrial Product Co., Ltd. (Anhui) (Wor-Biz), an exporter of cast iron soil pipe fittings (soil pipe fittings) from the People's Republic of China (China), sold subject merchandise in the United States at prices below normal value (NV) during the period of review (POR) February 20 2018 through July 31, 2019. We also preliminarily determine that Qinshui Shunshida Casting Co., Ltd. (Shunshida) is not eligible for a separate rate and is, therefore, part of the China-wide entity. We invite interested parties to comment on these preliminary results.

DATES: Applicable June 24, 2020.

FOR FURTHER INFORMATION CONTACT: Michael Bowen or Samantha Kinney, AD/CVD Operations, Office VIII, Enforcement and Compliance, International Trade Administration, U.S. Department of Commerce, 1401 Constitution Avenue NW, Washington, DC 20230; telephone: (202) 482-0768 or (202) 482-2285, respectively.

SUPPLEMENTARY INFORMATION:

Background

On October 7, 2019, Commerce published a notice of initiation of an administrative review of the antidumping duty order on soil pipe fittings from China.¹ This administrative review covers 11 companies, including two mandatory respondents: Wor-Biz ² and Shunshida. We preliminarily determine that sales of subject merchandise by Wor-Biz have been made at prices below NV. Shunshida did not respond to our questionnaire and has filed no submissions on the record of this administrative review. We therefore consider Shunshida to be part of the China-wide entity. In addition, we are preliminarily granting separate rates to five producers/exporters, including Wor-Biz.

¹ See Initiation of Antidumping and Countervailing Duty Administrative Reviews, 84 FR 53411 (October 7, 2019) (Initiation Notice).

² On January 8, 2020, Commerce determined that Wor-Biz Industrial Product Co., Ltd. (Anhui) is the successor-in-interest to Wor-Biz Trading Co., Ltd (Anhui) and is therefore entitled to that company's cash deposit rate with respect to entries of subject merchandise. See Cast Iron Soil Pipe Fittings from the People's Republic of China: Final Results of Changed Circumstances Review, 85 FR 881 (January 8, 2020).

On April 24, 2020, Commerce tolled all deadlines in administrative reviews by 50 days, thereby extending the deadline for these results until June 22, 2020.³

³ See Memorandum, “Tolling of Deadlines for Antidumping and Countervailing Duty Administrative Reviews in Response to Operational Adjustments Due to COVID-19,” dated April, 24, 2020.

Scope of the Order ⁴

⁴ See Cast Iron Soil Pipe Fittings from the People's Republic of China: Amended Final Determination of Sales at Less Than Fair Value and Antidumping Duty Order, 83 FR 44570 (August 31, 2018) (the Order).

The products covered by the Order are soil pipe fittings from China. For a complete description of the scope of this administrative review, see the Preliminary Decision Memorandum.⁵

⁵ See Memorandum, “Decision Memorandum for the Preliminary Results in the Antidumping Duty Administrative Review; Cast Iron Soil Pipe Fittings from the People's Republic of China; 2018-2019,” dated concurrently with, and hereby adopted by, this notice (Preliminary Decision Memorandum).

Separate Rates

We preliminarily determine that, in addition to Wor-Biz, four companies not individually examined are eligible for separate rates in this administrative review: Dalian Lino F.T.Z. Co., Ltd., Dalian Metal I/E Co., Ltd., Dinggin Hardware (Dalian) Co., Ltd., and Shijiazhuang Asia Casting Co., Ltd.⁶

⁶ See Preliminary Decision Memorandum at 5-7.

Under section 735(c)(5)(A) of the Tariff Act of 1930, as amended (the Act), which refers to the establishment of the all-others rate in market economy less-than-fair-value investigations, and to which we look for guidance in determining the rate for non-individually examined separate rate respondents in non-market-economy (NME) administrative reviews, the all-others rate is normally “an amount equal to the weighted average of the estimated weighted average dumping margins established for exporters and producers individually investigated, excluding any zero and de minimis margins, and any margins determined entirely {on the basis of facts available (FA)}.” For the preliminary results of this administrative review, Commerce has calculated an estimated dumping margin only for Wor-biz.⁷ Because the estimated dumping margin for Wor-biz is the only available calculated margin for this POR, we are assigning this rate to all eligible non-selected respondents who qualify for a separate rate in this administrative review.

⁷ See Memorandum, “Preliminary Margin Calculation for Wor-Biz Industrial Product Co., Ltd. (Anhui),” dated concurrently with this notice. See also Preliminary Decision Memorandum at 13-23.

The China-Wide Entity

Commerce's policy regarding conditional review of the China-wide entity applies to this administrative review.⁸ Under this policy, the China-wide entity will not be under review unless a party specifically requests, or Commerce self-initiates, a review of the entity. Because no party requested a review of the China-wide entity, the entity is not under review, and the entity's rate is not subject to change.

⁸ See Antidumping Proceedings: Announcement of Change in Department Practice for Respondent Selection in Antidumping Duty Proceedings and Conditional Review of the Nonmarket Economy Entity in NME Antidumping Duty Proceedings, 78 FR 65963 (November 4, 2013).

Commerce considers all companies for which a review was requested and which did not demonstrate separate rate eligibility to be part of the China-wide entity.⁹ For the preliminary results of this review, we consider the following six companies including Shunshida to be part of the China-wide entity: Golden Orange International Ltd., Hebei Metals & Engineering Products Trading Co., Ltd., Qinshui Shunshida Casting Co., Ltd., Richang Qiaoshan Trade Co., Ltd., Shanxi Zhongrui Tianyue Trading Co., Ltd., and Yangcheng Country Huawang Universal. For additional information, see the Preliminary Decision Memorandum.

⁹ See Initiation Notice, 84 FR at 53412 (“All firms listed below that wish to qualify for separate rate status in the administrative reviews involving NME countries must complete, as appropriate, either a separate rate application or certification, as described below.”).

Methodology

We are conducting this review in accordance with section 751(a)(1)(B) of the Act and 19 CFR 351.213. We calculated export prices for Wor-Biz in accordance with section 772(a) of the Act. Because China is an NME within the meaning of section 771(18) of the Act, we calculated NV in accordance with section 773(c) of the Act. Additionally, as discussed above, we are considering Shunshida to be part of the China-wide entity.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed at http://enforcement.trade.gov/frn/index.html. The signed and the electronic versions of the Preliminary Decision Memorandum are identical in content. A list of topics discussed in the Preliminary Decision Memorandum is included at the Appendix to this notice.

Preliminary Results of the Administrative Review

We preliminarily determine that the following weighted-average dumping margins exist for the administrative review covering the period February 20, 2018 through July 31, 2019:

Exporters | Weighted- average dumping margin (percent)
Dalian Lino F.T.Z. Co., Ltd | 18.16
Dalian Metal I/E Co., Ltd | 18.16
Dinggin Hardware (Dalian) Co., Ltd | 18.16
Shijiazhuang Asia Casting Co., Ltd | 18.16
Wor-Biz Industrial Product Co., Ltd (Anhui) | 18.16

Disclosure and Public Comment

Commerce intends to disclose the calculations performed in connection with these preliminary results to interested parties within five days of the date of publication of this notice in accordance with 19 CFR 351.224(b).

Interested parties may submit case briefs no later than 30 days after the date of publication of these preliminary results of review.¹⁰ Rebuttals to case briefs, limited to issues raised in the case briefs, may be filed no later than seven days after the date for filing case briefs.¹¹ Note that Commerce has modified certain of its requirements for serving documents containing business proprietary information, until July 17, 2020, unless extended.¹² Pursuant to 19 CFR 351.309(c)(2) and (d)(2), parties who submit case briefs or rebuttal briefs in this proceeding are encouraged to submit with each argument: (1) A statement of the issue; (2) a brief summary of the argument; and (3) a table of authorities.

¹⁰ See 19 CFR 351.309(c).

¹¹ See 19 CFR 351.309(d); see also Temporary Rule Modifying AD/CVD Service Requirements Due to COVID-19, 85 FR 17006 (March 26, 2020) (“To provide adequate time for release of case briefs via ACCESS, E&C intends to schedule the due date for all rebuttal briefs to be 7 days after case briefs are filed (while these modifications are in effect).”).

¹² See Temporary Rule Modifying AD/CVD Service Requirements Due to COVID-19; Extension of Effective Period, 85 FR 29615 (May 18, 2020).

All submissions to Commerce must be filed electronically using Enforcement and Compliance's electronic records system, ACCESS.¹³ An electronically filed document must be received successfully in its entirety by ACCESS, by 5:00 p.m. Eastern Time on the date that the document is due.

¹³ See 19 CFR 351.303.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed.

Unless otherwise extended, we intend to issue the final results of this administrative review, which will include the results of our analysis of the issues raised in the case briefs, within 120 days of publication of these preliminary results in the Federal Register, pursuant to section 751(a)(3)(A) of the Act and 19 CFR 351.213(h).

Assessment Rates

Upon issuance of the final results, Commerce will determine, and U.S. Customs and Border Protection (CBP) shall assess, antidumping duties on all appropriate entries covered by this review, in accordance with 19 CFR 351.212(b). Commerce intends to issue assessment instructions to CBP 15 days after the publication of the final results of this review.

For any individually examined respondent whose (estimated) ad valorem weighted-average dumping margin is not zero or de minimis (i.e., less than 0.50 percent) in the final results of this review, Commerce will calculate importer-specific assessment rates on the basis of the ratio of the total amount of dumping calculated for the importer's examined sales and the total quantity of those sales, in accordance with 19 CFR 351.212(b)(1).¹⁴ Commerce will also calculate (estimated) ad valorem importer-specific assessment rates with which to assess whether the per-unit importer-specific assessments rates are de minimis. We will instruct CBP to assess antidumping duties on all appropriate entries covered by this review when the importer-specific ad valorem assessment rate calculated in the final results of this review is not zero or de minimis. Where either the respondent's ad valorem weighted-average dumping margin is zero or de minimis, or an importer-specific ad valorem assessment rate is zero or de minimis,¹⁵ we will instruct CBP to liquidate the appropriate entries without regard to antidumping duties.

¹⁴ See Antidumping Proceedings: Calculation of the Weighted-Average Dumping Margin and Assessment Rate in Certain Antidumping Proceedings: Final Modification, 77 FR 8101 (February 14, 2012), for the assessment rate calculation method adopted in these preliminary results.

¹⁵ See 19 CFR 351.106(c)(2).

For the respondents that were not selected for individual examination in this administrative review that qualified for a separate rate, the assessment rate will be the separate rate established in the final results of this administrative review. If, in the final results, this rate is zero or de minimis (i.e., less than 0.5 percent), Commerce will instruct CBP to liquidate the appropriate entries without regard to antidumping duties. For entries that were not reported in the U.S. sales databases submitted by the individually examined respondent, and for the six companies that did not qualify for a separate rate in the administrative review, Commerce will instruct CBP to liquidate such entries at the China-wide rate (i.e., 360.30 percent).

Cash Deposit Requirements

The following cash deposit requirements will be effective upon publication of the final results of this review for all shipments of the subject merchandise from China entered, or withdrawn from warehouse, for consumption on or after the publication date, as provided for by section 751(a)(2)(C) of the Act: (1) For the companies listed above that have a separate rate, the cash deposit rate will be that established in the final results; (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 360.30 percent); and (4) for all non-Chinese exporters of subject merchandise that have not received their own rate, the cash deposit rate will be the rate applicable to the Chinese exporter that supplied that non-Chinese exporter. These cash deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties.

We are issuing and publishing the preliminary results of this review in accordance with sections 751(a)(l), 751(a)(3), and 777(i)(l) of the Act and 19 CFR 351.213 and 351.221(b)(4).

Dated: June 18, 2020.
Jeffrey I. Kessler,
Assistant Secretary for Enforcement and Compliance.

Appendix

List of Topics Discussed in the Preliminary Decision Memorandum

I. Summary

II. Background

III. Period of Review

IV. Scope of the Order

V. Selection of Respondents

VI. Discussion of the Methodology

VII. Recommendation

[FR Doc. 2020-13639 Filed 6-23-20; 8:45 am]

BILLING CODE 3510-DS-P